DEPARTMENT OF TRANSPORTATION

Federal Aviation Administration

Public Notice for Waiver of Aeronautical Land-Use Assurance

AGENCY: Federal Aviation Administration (FAA), DOT.

ACTION: Notice of intent of waiver of Aeronautical Land-Use Assurance with respect to land; Port Columbus International Airport, Columbus, Ohio.

SUMMARY: The FAA is considering a proposal to change a 29.8 acre parcel of airport land from aeronautical use to non-aeronautical use and to authorize this parcel to be leased for revenue-producing, non-aeronautical purposes at Port Columbus International Airport, Columbus, Ohio. The aforementioned land is not needed for aeronautical use.

The parcel is located on the north side of Bridgeway Avenue, between Goshen Lane and James Road. The majority of the parcel is a mowed field. There are three (3) existing buildings located on the parcel. These buildings are not needed for aeronautical use and are to be removed. The parcel presently serves the primary purpose of protecting airport aeronautical (imaginary) surfaces which are needed for safe and efficient use of navigable airspace. The parcel will continue to serve in this same capacity through reservations and restrictions retained in the lease document. The parcel will be leased and developed for office/warehouse and office/call center facilities.

DATES: Comments must be received on or before May 29, 2014.

ADDRESSES: Documents are available for review by appointment at the FAA Detroit Airports District Office, Brian Tenkhoff, Program Manager, 11677 South Wayne Road, Suite 107, Romulus, MI 48174 Telephone: (734) 229-2933/Fax: (734) 229-2950 and Columbus Regional Airport Authority-Planning & Engineering, 4600 International Gateway, Columbus, Ohio 43219 Telephone: (614)239-5014.

Written comments on the Sponsor's request must be delivered or mailed to: Brian Tenkhoff, Program Manager, Federal Aviation Administration, Detroit Airports District Office, 11677 South Wayne Road, Suite 107, Romulus, MI 48174, Telephone Number: (734) 229-2933/FAX Number: (734) 229-2950.

FOR FURTHER INFORMATION CONTACT: Brian Tenkhoff, Program Manager, Federal Aviation Administration, Detroit Airports District Office, 11677 South Wayne Road, Suite 107, Romulus, MI 48174. Telephone Number: (734) 229-2933/FAX Number: (734) 229-2950.

SUPPLEMENTARY INFORMATION: In accordance with section 47107(h) of Title 49, United States Code, this notice is required to be published in the Federal Register 30 days before modifying the land-use assurance that requires the property to be used for an aeronautical purpose.

The parcel is depicted on the Airport Layout Plan (ALP) dated November 17, 2011, and the Exhibit “A” property map. The parcel was acquired through multiple Airport Improvement Program (AIP) Grants: 3-39-0025-01, 3-39-0025-02 and 06-39-0025-04.

No airport landside or airside facilities are presently located on this parcel nor is airport development contemplated in the future. Development of the parcel for airside or landside operations is largely restricted due to the parcel being separated from the airfield by Bridgeway Avenue. There are no impacts to the airport by allowing it to waive the requirement to maintain the parcel for aeronautical use.

The sponsor will control use of the parcel through the terms and conditions of the ground lease. The lease will be subordinate to the sponsor's existing grant assurances. This will ensure that all activities contemplated on the parcel will be compatible with FAA requirements and airport operations.

The disposition of proceeds from the lease of the airport property will be in accordance with FAA's Policy and Procedures Concerning the Use of Airport Revenue, published in the Federal Register on February 16, 1999 (64 FR 7696).

This notice announces that the FAA is considering the release of the subject airport property at the Port Columbus International Airport, Columbus, Ohio from its obligations to be maintained for aeronautical purposes. Approval does not constitute a commitment by the FAA to financially assist in the change in use of the subject airport property nor a determination of eligibility for grant-in-aid funding from the FAA.

Following is the legal description of the subject airport parcel at the Port Columbus International Airport in Columbus, Ohio:

Situated in the State of Ohio, County of Franklin, City of Columbus, lying in Quarter Township 4, Township 1, Range 17, United States Military Lands, and being part of that tract conveyed to Columbus Regional Airport Authority by deed of record in Instrument Number 200712310221206, (all references are to the records of the Recorder's Office, Franklin County, Ohio) and being more particularly described as follows:

BEGINNING at the intersection of the easterly right-of-way line of Goshen Lane and the northerly right-of-way line of Bridgeway Avenue; Thence North 04°40′22″ East, with said easterly right-of-way line, a distance of 87.31 feet to a point; Thence North 12°44′06″ East, continuing with said easterly right-of-way line, a distance of 149.00 feet to a point; Thence South 88°03′05″ East, across said Columbus Regional Airport Authority tract, a distance of 204.08 feet to a point; Thence North 01°27′56″ East, continuing across said Columbus Regional Airport Authority tract, a distance of 174.69 feet to a point in the southerly limited access right-of-way line of Interstate 270; Thence with said southerly limited access right-of-way line, the following courses and distances: South 88°06′11″ East, a distance of 252.52 feet to a point; South 85°36′03″ East, a distance of 2302.26 feet to a point; North 83°07′38″ East, a distance of 123.89 feet to a point; and South 85°58′44″ East, a distance of 224.25 feet to the intersection of said southerly limited access right-of-way line and the westerly right-of-way line of James Road; Thence South 03°36′59″ West, with said westerly right-of-way line, a distance of 453.48 feet to the intersection of said westerly right-of-way line and the northerly right-of-way line of said Bridgeway Avenue; Thence North 85°37′22″ West, with said northerly right-of-way line, a distance of 3123.45 feet to the POINT OF BEGINNING containing 29.8 acres, more or less.

Issued in Romulus, MI, on April 10, 2014.
John L. Mayfield, Jr.,
Manager, Detroit Airports District Office, FAA, Great Lakes Region.

[FR Doc. 2014-09633 Filed 4-28-14; 8:45 am]

BILLING CODE 4910-13-P